DEPARTMENT OF ENERGY

Federal Energy Regulatory Commission

Combined Notice of Filings #1

July 26, 2005.

Take notice that the Commission received the following electric rate filings.

Docket Numbers: ER01-2398-009.

Applicants: Liberty Electric Power, LLC.

Description: Liberty Electric Power, LLC supplements the compliance filing submitted on 7/7/05 and tenders for filing a revised tariff sheet designated as First Revised Sheet No. 3 to FERC Electric Tariff, First Revised Volume 1.

Filed Date: 07/20/2005.

Accession Number: 20050722-0284.

Comment Date: 5 p.m. eastern time on Wednesday, August 10, 2005.

Docket Numbers: ER03-552-011; ER03-984-009.

Applicants: New York Independent System Operator, Inc.

Description: New York Independent System Operator, Inc., in compliance with the Commission's letter order issued 3/23/05 (110 FERC ¶ 61,309), submits a status report on its progress regarding the implementation of the Netting Bilaterals Project.

Filed Date: 07/21/2005.

Accession Number: 20050721-5037

Comment Date: 5 p.m. eastern time on Thursday, August 11, 2005.

Docket Numbers: ER05-1020-002.

Applicants: WASP Energy, LLC.

Description: WASP Energy, LLC submits an amendment to its 5/26/05 filing, as amended on 6/24/05, of a petition for acceptance of initial rate schedule, waivers and blanket authority.

Filed Date: 07/21/2005.

Accession Number: 20050725-0040.

Comment Date: 5 p.m. eastern time on Thursday, August 11, 2005.

Docket Numbers: ER05-1079-002.

Applicants: Forest Investment Group, LLC.

Description: Forest Investment Group, LLC submits an amendment to its 6/6/05 filing, as amended on 7/12/05, of a application for market-based rate authority.

Filed Date: 07/21/2005.

Accession Number: 20050725-0041.

Comment Date: 5 p.m. eastern time on Tuesday, August 2, 2005.

Docket Numbers: ER05-1176-001.

Applicants: Adirondack Hydro Development Corporation.

Description: Black Hills Corporation, on behalf of Adirondack Hydro Development Corporation, submits a notice of cancellation of it's discontinued market-based rate wholesale power sales tariff.

Filed Date: 07/19/2005.

Accession Number: 20050725-0042.

Comment Date: 5 p.m. eastern time on Tuesday, August 9, 2005.

Docket Numbers: ER05-1228-000.

Applicants: Sea Breeze Pacific Juan de Fuca Cable, LP.

Description: Sea Breeze Pacific Juan de Fuca Cable, LP submits an application for authorization to sell transmission rights at negotiated rates.

Filed Date: 07/20/2005.

Accession Number: 20050725-0043.

Comment Date: 5 p.m. eastern time on Wednesday, August 10, 2005.

Docket Numbers: ER05-1229-000.

Applicants: Old Dominion Electric Cooperative.

Description: Old Dominion Electric Cooperative, Inc. submits its rate schedule for providing cost-based reactive power and voltage control from generation sources service form Old Dominion's natural gas-fired generating facility located in Louisa County, Virginia.

Filed Date: 07/21/2005.

Accession Number: 20050725-0038.

Comment Date: 5 p.m. eastern time on Thursday, August 11, 2005.

Docket Numbers: ER05-1230-000.

Applicants: Midwest Independent Transmission System Operator, Inc.

Description: Midwest Independent Transmission System Operator, Inc. submits revisions to their open access transmission and energy markets tariff, FERC Electric Tariff, Third Revised Volume No.1.

Filed Date: 07/21/2005.

Accession Number: 20050725-0037.

Comment Date: 5 p.m. eastern time on Thursday, August 11, 2005.

Docket Numbers: ER05-1231-000.

Applicants: Calpeak Power, LLC.

Description: CalPeak Power, LLC submits certain limited corrections to Schedule D to the reliability must-run service agreement between El Cajon and the California ISO.

Filed Date: 07/21/2005.

Accession Number: 20050725-0039.

Comment Date: 5 p.m. eastern time on Thursday, August 11, 2005.

Docket Numbers: ER98-3719-007.

Applicants: People's Electric Corporation.

Description: People's Electric Corporation submits an updated market power analysis and revisions to its market based rate tariff in compliance with the Commission's Order issued 5/31/05, 111 FERC ¶ 61,295.

Filed Date: 07/21/2005.

Accession Number: 20050725-0109.

Comment Date: 5 p.m. eastern time on Thursday, August 11, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov. or call (866) 208-3676 (toll free). For TTY, call (202) 502-8659.

Linda Mitry,
Deputy Secretary.

[FR Doc. E5-4086 Filed 7-29-05; 8:45 am]

BILLING CODE 6717-01-P